FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/Address | Date Reissued
17836N | U.S. Sea Wave Express, Inc., 2931 Plaza Del Amo, #74, Torrance, CA 90503 | August 4, 2002.
13496N | Worldwide Freight Systems, Inc., 1830-C Independence Square, Atlanta, GA 30338 | July 16, 2002.

Sandra L. Kusumoto,
Director, Bureau of Consumer Complaints and Licensing.

[FR Doc. 02-23724 Filed 9-17-02; 8:45 am]

BILLING CODE 6730-01-P